DEPARTMENT OF HOMELAND SECURITY

Federal Emergency Management Agency

Agency Information Collection Activities: Proposed Collection; Comment Request

AGENCY: Federal Emergency Management Agency, DHS.

ACTION: Notice; 60-day notice and request for comments; revision of a currently approved collection, OMB No. 1660-0025.

SUMMARY: The Federal Emergency Management Agency (FEMA), as part of its continuing effort to reduce paperwork and respondent burden, invites the general public and other Federal agencies to take this opportunity to comment on a proposed continuing information collection. In accordance with the Paperwork Reduction Act of 1995, this notice seeks comments concerning the forms used to collect financial, programmatic and administrative information from States and local governments pertaining to grant and cooperative agreement.

SUPPLEMENTARY INFORMATION: This information is provided in accordance with the requirements in 44 CFR part 13, Uniform Administrative Requirements for Grants and Cooperative Agreements to State and Local Government (subpart B 13.10, subpart C 13.32, 13.33, 13.40, 13.41, and subpart D 13.50). This is FEMA implementation of the Common Rule for grants.

Collection of Information

Title: FEMA Grant Administration Forms.

Type of Information Collection: Revision of a currently approved collection.

OMB Number: 1660-0025.

Form Numbers: SF-424, Application for Federal Assistance, FEMA Form 20-20, Budget Information, FEMA Form 20-15, Budget Information—Construction, FEMA Form 20-16,A,B,C, Summary Sheet for Assurances and Certifications, SFLLL, Disclosure of Lobbying Activities, FEMA Form 76-10A, Obligating Document for Award/Amendment, FEMA Form 20-10, Financial Status Report and Performance Reports, FEMA Form 20-17, Outlay Report and Request for Reimbursement for Construction Program, FEMA Form 20-18, Report of Government Property, FEMA Form 20-19, Reconciliation of Grants and Cooperative Agreements, and SF 270 Request for Advance or Reimbursement.

Abstract: This collection of information focuses on the standardization and consistent use of standard and FEMA forms associated with grantees requests for disaster and non-disaster Federal assistance, submission of financial and administrative reporting and record keeping. The use of the forms will minimize burden on the respondent and enable FEMA to continue to improve in its grants administration practices. The forms are used to administer the following FEMA grant programs.

Non-Disaster Programs

National Urban Search and Rescue (US&R) Response System—To develop an immediately deployable, national response capability to locate and extricate, and medically stabilize victims of structural collapse during a disaster, while simultaneously enhancing the US&R response capabilities of State and local governments.

Community Assistance Program—State Support Services Element (CAP-SSSE)—To ensure that communities participating in the National Flood Insurance Program (NFIP) are achieving flood loss reduction measures consistent with program direction. The CAP-SSSE is intended to identify, prevent and resolve floodplain management issues in participating communities before they develop into problems requiring enforcement action.

Chemical Stockpile Emergency Preparedness Program (CSEPP)—To enhance emergency preparedness capabilities of the States and local communities at each of the eight chemical agent stockpile storage facilities. The purpose of the program is to assist States and local communities in efforts to improve their capacity to plan for and respond to accidents associated with the storage and ultimate disposal of chemical warfare materials.

National Dam Safety Program (NDSP)—To encourage the establishment and maintenance of effective State programs intended to ensure dam safety, to protect human life and property, and to improve State dam safety programs.

Interoperable Communications Equipment (ICE)—To provide funding to jurisdictions across the nation for demonstration projects on uses of equipment and technologies to increase communications interoperability among the fire service, law enforcement, and emergency medical service communities. These projects will illustrate and encourage the acceptance of new technologies and operating methods to assist communities in achieving interoperability.

Earthquake Consortium (EqC)—To operate a program of grants and assistance to enable States to develop mitigation, preparedness and response plans prepare inventories and conduct seismic safety inspection of critical structures and lifelines, update building and zoning codes and ordinances to enhance seismic safety, increase earthquake awareness and education, and encourage the development of multi-State groups for such purposes.

Disaster Donations Management Program (AIDMATRRIX)—To distribute technology solutions to State and local government and voluntary agencies throughout the country prior, to a major event, through the Aidmatrix Foundation/FEMA partnership. This will allow end-users to incorporate technology solutions into their planning, increasing their capacity to respond quickly and effectively once a disaster occurs.

Alternative Housing Pilot Program (AHPP)—Evaluate the efficacy of non-traditional short and intermediate-term housing alternatives for potential future use in a catastrophic disaster environment. Identify, develop and evaluate alternatives to and alternative forms of FEMA Disaster Housing to assist victims of the 2005 hurricanes in the Gulf Coast.

Cooperating Technical Partners (CTP)—To increase local involvement in, and ownership of, the development and maintenance of flood hazard maps produced for the National Flood Insurance Program (NFIP).

Map Modernization Management Support (MMMS)—To increase local involvement in, and ownership of, management of the development and maintenance of flood hazard maps produced for the National Flood Insurance.

New Repetitive Flood Claims (RFC)—The Repetitive Flood Claims (RFC) Program was authorized in 2004 under Pub. L. 108-264, funds were not appropriated until FY 2006. The RFC program is authorized under the NFIA to award grants for actions that reduce flood damages to individual properties for which one or more claim payments for losses have been made. FEMA is not required to publish regulations; however, FEMA will provide notice to eligible applicants, post notice on OMB's Grants.gov Web site, and post the RFC program guidance on its Web site at http://www.fema.gov.

Flood Mitigation Assistance (FMA)—To assist States and communities in implementing measures to reduce or eliminate the long-term risk of flood damage to buildings, manufactured homes, and other structures insurable under the National Flood Insurance Program (NFIP).

Pre-Disaster Mitigation (PDM)—To provide States and communities with a much needed source of pre-disaster mitigation funding for cost-effective hazard mitigation activities that are part of a comprehensive mitigation program, and that reduce injuries, loss of life, and damage and destruction of property. Competitive grants are part of this program including grants to universities.

Assistance to Firefighters Grant (AFG)—To provide direct assistance, on a competitive basis, to fire departments of a State or tribal nation for the purpose of protecting the health and safety of the public and firefighting personnel against fire and fire-related hazards.

Staffing for Adequate Fire and Emergency Response (SAFER)—To increase the number of firefighters in local communities and to help them meet industry minimum standards and attain 24/7 staffing for adequate protection against fire and fire-related hazards, and fulfill related roles associated with fire departments.

Disaster Programs

Public Assistance Grants (PA)—To provide supplemental assistance to States, local governments, and political subdivisions to the State, Indian Tribes, Alaskan Native Villages, and certain nonprofit organizations in alleviating suffering and hardship resulting from major disasters or emergencies declared by the President.

Crisis Counseling (SCC)—To provide immediate crisis counseling services, when required, to victims of a major Federally-declared disaster for the purpose of relieving mental health problems caused or aggravated by a major disaster or its aftermath.

Presidential Declared Disaster Assistance to Individuals and Households—Other Needs (ONA)—To provide assistance to individuals and households affected by a disaster or emergency declared by the President, and enable them to address necessary expenses and serious needs, which cannot be met through other forms of disaster assistance or through other means such as insurance.

Hazard Mitigation Grant Program (HMGP)—To provide States and local governments' financial assistance to implement measures that will permanently reduce or eliminate future damages and losses from natural hazards through safer building practices and improving existing structures and supporting infrastructure.

Fire Management Assistance Grant (FMAGP)—To provide grants to States, Indian tribal government and local governments for the mitigation, management and control of any fire burning on publicly (nonfederal) or privately owned forest or grassland that threatens such destruction as would constitute a major disaster.

Affected Public: State, local, and tribal governments.

Estimated Total Annual Burden Hours:

Data collections activity/instruments | Number of respondents (A) | Frequency of responses (B) | Hour burden per response (C) | Annual responses (D) = (A × B) | Total annual burden hours (C × D)
Disaster Programs
PA
SF 424 | 56 | 1 | 45 minutes | 56 | 42 hours
FF 20-20 | 56 | 1 | 9.7 hours | 56 | 543 hours.
FF 20-16, A, B, C | 56 | 1 | 1.7 hours | 56 | 95 hours.
FF 20-10 | 56 | 4 | 1 hour | 224 | 224 hours.
SF-LLL | 56 | 1 | 10 minutes | 56 | 9 hours.
Sub-Total | 56 |  | 13.3 hours | 392 | 57 Disaster Declarations × 913 hours = 52,041.
SCC
SF 424 | 17 | 1 | 45 minutes | 17 | 13 hours.
SF 20-20 | 17 | 1 | 9.7 hours | 17 | 165 hours.
FF 20-16, A, B, C | 17 | 1 | 1.7 hours | 17 | 29 hours.
FF 20-10 (SF 269) | 17 | 4 | 1 hour | 68 | 68 hours.
SF-LLL | 17 | 1 | 10 minutes | 17 | 3 hours.
Sub-Total | 17 |  | 13.3 hours | 119 | 57 Disaster Declarations × 278 hours = 15,846.
ONA
SF 424 | 40 | 1 | 45 minutes | 40 | 30 hours.
FF 20-20 | 40 | 1 | 9.7 hours | 40 | 388 hours.
FF 20-16, A, B, C | 40 | 1 | 1.7 hours | 40 | 68 hours.
FF 20-10 | 40 | 4 | 1 hour | 160 | 160 hours.
SF-LLL | 40 | 1 | 10 minutes | 40 | 7 hours.
Sub-Total | 40 |  | 13.3 hours | 320 | 57 Disaster Declarations × 653 hours = 37,221.
HMGP
SF 424 | 52 | 1 | 45 minutes | 52 | 39 hours.
FF 20-20 | 52 | 15 | 9.7 hours | 780 | 7,566 hours.
FF 20-16, A, B, C | 52 | 1 | 1.7 hours | 52 | 88 hours.
FF 20-10 | 52 | 4 | 1 hour | 208 | 208 hours.
FF 20-17 | 52 | 15 | 17.2 hours | 780 | 13,416 hours.
FF 20-18 | 52 | 6 | 4.2 hours | 312 | 1,310 hours.
FF 20-19 | 52 | 6 | 5 minutes | 312 | 25 hours.
SF-LLL | 52 | 1 | 10 minutes | 52 | 9 hours.
Sub-Total | 52 |  | 35 hours | 2,548 | 57 Disaster Declarations × 22,661 hours = 1,291,677.
FMAGP
SF 424 | 12 | 4 | 45 minutes | 48 | 36 hours.
FF 20-20 | 36 | 4 | 9.7 hours | 144 | 1,397 hours.
FF 20-16, A, B, C | 36 | 4 | 1.7 hours | 144 | 245 hours.
FF 20-15 | 36 | 4 | 17.2 hours | 144 | 2,477 hours.
FF 20-10 | 12 | 4 | 1 hour | 48 | 48 hours.
FF 20-18 | 36 | 4 | 4.2 hours | 144 | 605 hours.
FF 20-19 | 36 | 4 | 5 minutes | 144 | 12 hours.
SF-LLL | 36 | 4 | 10 minutes | 144 | 24 hours.
Sub-Total | 36 |  | 35 hours | 960 | 94 Disasters Declarations × 4,844 hours = 455,336.
Disaster Grants Total | 56 |  | 110 hours | 3,800 | 1,852,121 hours.
Non-Disaster Programs
US&R
SF 424 | 28 | 1 | 45 minutes | 28 | 21 hours.
FF 20-20 | 28 | 1 | 9.7 hours | 28 | 272 hours.
FF 20-16, A, B, C | 28 | 1 | 1.7 hours | 28 | 48 hours.
FF 76-10A | 28 | 1 | 1.2 hours | 28 | 34 hours.
FF 20-10 | 28 | 2 | 1 hour | 56 | 56 hours.
SF 270 | 28 | 1 | 1 hour | 28 | 28 hours.
SF-LLL | 28 | 1 | 10 minutes | 28 | 5 hours.
Sub-total | 28 |  | 16 hours | 224 | 498 hours.
CAP-SSSE
SF 424 | 56 | 1 | 45 minutes | 56 | 42 hours.
FF 20-20 | 56 | 1 | 9.7 hours | 56 | 543 hours.
FF 20-15 | 56 | 1 | 17.2 hours | 56 | 963 hours.
FF 20-16, A, B, C | 56 | 1 | 1.7 hours | 56 | 95 hours.
FF 76-10A | 56 | 1 | 1.2 hours | 56 | 67 hours.
FF 20-10 | 56 | 2 | 1 hour | 112 | 112 hours.
FF 20-18 | 56 | 1 | 4.2 hours | 56 | 235 hours.
FF 20-19 | 56 | 1 | 5 minutes | 56 | 4 hours.
SF-LLL | 56 | 1 | 10 minutes | 56 | 9 hours.
Sub-total | 56 |  | 36 hours | 560 | 2,070 hours.
CSEPP
SF 424 | 10 | 1 | 45 minutes | 10 | 8.0 hours.
FF 20-20 | 10 | 1 | 9.7 hours | 10 | 97.0 hours.
FF 20-10 | 10 | 4 | 1 hour | 40 | 40.0 hours.
FF 20-16, A, B, C | 10 | 1 | 1.7 hours | 10 | 17.0 hours.
FF 76-10A | 10 | 1 | 1.2 hours | 10 | 12.0 hours.
FF 20-18 | 10 | 1 | 4.2 hours | 10 | 42.0 hours.
FF 20-19 | 10 | 1 | 5 minutes | 10 | 1.0 hours.
SF-LLL | 10 | 1 | 10 minutes | 10 | 2.0 hours.
Sub-total | 10 |  | 19 hours | 120 | 219 hours.
NDSP
SF 424 | 51 | 1 | 45 minutes | 51 | 38.0 hours.
FF 20-20 | 51 | 1 | 9.7 hours | 51 | 495.0 hours.
FF 20-16, A, B, C | 51 | 1 | 1.7 hours | 51 | 87.0 hours.
FF 76-10A | 51 | 1 | 1.2 hours | 51 | 61.0 hours.
FF 20-10 | 51 | 4 | 1 hour | 204 | 204.0 hours.
SF 270 | 51 | 1 | 1 hour | 51 | 51.0 hours.
SF-LLL | 51 | 1 | 10 minutes | 51 | 8.0 hours.
Sub-total | 51 |  | 16 hours | 510 | 944 hours.
ICE
FF 20-10 | 17 | 4 | 1 hour | 68 | 68.0 hours.
Sub-total | 17 |  | 1 hour | 17 | 68 hours.
EqC
FF 20-10 | 3 | 2 | 1 hour | 6 | 6 hours.
Sub-Total | 3 |  | 1 hour | 6 | 6 hours.
AIDMATRIX
SF 424 | 1 | 1 | 45 minutes | 1 | .75 minutes
FF 20-20 | 1 | 1 | 9.7 hours | 1 | 9.7 hours.
FF 20-10 | 1 | 4 | 1 hour | 4 | 4.0 hours.
FF 20-16 A,B,C | 1 | 1 | 1.7 hours | 1 | 1.7 hours.
SF-LLL | 1 | 1 | 10 minutes | 1 | .16 minutes
Sub-Total | 1 |  | 13 hours | 8 | 16 hours.
AHPP
SF 424 | 4 | 1 | 45 minutes | 4 | 3.0 hours.
FF 20-20 | 4 | 1 | 9.7 hours | 4 | 39.0 hours.
FF 20-10 | 4 | 4 | 1 hour | 16 | 16.0 hours.
FF 20-16-A,B,C | 4 | 1 | 1.7 hours | 4 | 6.8 hours.
SF-LLL | 4 | 1 | 10 minutes | 4 | .66 hours.
Sub-Total | 4 |  | 13 hours | 32 | 65 hours.
CTP
SF 424 | 20 | 1 | 45 minutes | 20 | 15.0 hours.
FF 20-20 | 20 | 1 | 9.7 hours | 20 | 194.0 hours.
FF 20-15 | 20 | 1 | 17.2 hours | 20 | 344.0 hours.
FF 20-16, A, B, C | 20 | 1 | 1.7 hours | 20 | 34.0 hours.
FF 20-10 | 20 | 4 | 1 hour | 80 | 80.0 hours.
SF-LLL | 20 | 1 | 10 minutes | 20 | 3.3 hours.
Sub-total | 20 |  | 31 hours | 180 | 670.3 hours.
MMMS
SF 424 | 20 | 1 | 45 minutes | 20 | 15.0 hours.
FF 20-20 | 20 | 1 | 9.7 hours | 20 | 194.0 hours.
FF 20-15 | 20 | 1 | 17.2 hours | 20 | 344.0 hours.
FF 20-16, A,B,C | 20 | 1 | 1.7 hours | 20 | 34.0 hours.
FF 20-10 | 20 | 2 | 1 hour | 40 | 40.0 hours.
SF-LLL | 20 | 1 | 10 minutes | 20 | 3.0 hours.
Sub-total | 20 |  | 31 hours | 120 | 630 hours.
RFC
SF 424 | 56 | 1 | 45 minutes | 56 | 42.0 hours.
FF 20-20 | 56 | 1 | 9.7 hours | 56 | 543.0 hours.
FF 76-10A | 56 | 1 | 1.2 hours | 56 | 67.0 hours.
FF 20-16, A, B, C | 56 | 1 | 1.7 hours | 56 | 95.0 hours.
FF 20-10 | 56 | 4 | 1 hour | 224 | 224.0 hours.
FF 20-18 | 56 | 1 | 4.2 hours | 56 | 235.0 hours.
FF-20-19 | 56 | 1 | 5 minutes | 56 | 5.0 hours.
SF-LLL | 56 | 1 | 10 minutes | 56 | 9.0 hours.
Sub-total | 56 |  | 19 hours | 616 | 1,220 hours.
FMA
SF 424 | 56 | 3 | 45 minutes | 168 | 126.0 hours.
FF 20-20 | 56 | 3 | 9.7 hours | 168 | 1630.0 hours.
FF 20-16, A, B, C | 56 | 1 | 1.7 hours | 56 | 95.0 hours.
FF 76-10A | 56 | 3 | 1.2 hours | 168 | 202.0 hours.
FF 20-10 | 56 | 4 | 1 hour | 224 | 224.0 hours.
FF 20-18 | 56 | 1 | 4.2 hours | 56 | 235.0 hours.
FF 20-19 | 56 | 1 | 5 minutes | 56 | 4.0 hours.
SF-LLL | 56 | 1 | 10 minutes | 56 | 9.0 hours.
Sub-Total | 56 |  | 19 hours | 952 | 2,525 hours.
PDM
SF 424 | 56 | 2 | 45 minutes | 112 | 84 hours.
FF 20-15 | 56 | 1 | 17.2 hours | 56 | 963.2 hours.
FF 20-20 | 56 | 2 | 9.7 hours | 112 | 1,086.4 hours.
FF 76-10A | 56 | 2 | 1.2 hours | 112 | 134.4 hours.
FF 20-16, A, B, C | 56 | 2 | 1.7 hours | 112 | 190.4 hours.
FF 20-10 | 56 | 8 | 1 hour | 448 | 448 hours.
FF 20-17 | 56 | 20 | 17.2 hours | 1,120 | 19,264 hours.
FF 20-18 | 56 | 2 | 4.2 hours | 112 | 470.4 hours.
FF 20-19 | 56 | 2 | 5 minutes | 112 | 9.3 hours.
SF-LLL | 56 | 2 | 10 minutes | 112 | 18.6 hours.
Sub-total | 56 |  | 53 hours | 2,408 | 22,668.7 hours.
AFG*
SF 424 | 4,246 | 1 | 45 minutes | 4,246 | 3,185.0 hours.
FF 20-20 | 4,246 | 2 | 9.7 hours | 8,492 | 82,372.0 hours.
FF 76-10A | 4246 | 2 | 1.2 hours | 8,492 | 10,190.0 hours.
FF 20-16, A, B, C | 4,246 | 1 | 1.7 hours | 4,246 | 7,218.0 hours.
FF 20-10 | 4,246 | 2 | 1 hour | 8,492 | 8,492.0 hours.
FF 20-17 | 4,246 | 1 | 17.2 hour | 4,246 | 73,031.0 hours.
FF 20-18 | 4,246 | 1 | 4.2 hours | 4,246 | 17,833.0 hours.
FF 20-19 | 4,246 | 1 | 5 minutes | 4,246 | 340.0 hours.
SF-LLL | 4,246 | 1 | 10 minutes | 4,246 | 705.0 hours.
Sub-total | 4,246 |  | 36 hours | 50,952 | 203,366 hours.
SAFER
SF 424 | 243 | 1 | 45 minutes | 243 | 182.0 hours.
FF 20-20 | 243 | 2 | 9.7 hours | 486 | 4,714.0 hours.
FF 76-10A | 243 | 2 | 1.2 hours | 486 | 583.0 hours.
FF 20-16, A, B, C | 243 | 1 | 1.7 hours | 243 | 413.1 hours.
FF 20-10 | 243 | 4 | 1 hour | 972 | 972 hours.
FF 20-17 | 243 | 1 | 17.2 hours | 243 | 4,179.6 hours.
FF 20-18 | 243 | 1 | 4.2 hours | 243 | 1,020.6 hours.
FF 20-19 | 243 | 1 | 5 minutes | 243 | 20.2 hours.
SF-LLL | 243 | 1 | 10 minutes | 243 | 40.5 hours.
Sub-total | 243 |  | 36 hours | 3,402 | 12,125.7 hours.
Non-Disaster Grants Total |  |  | 359 | 55,378 | 247,091.7
Grand Total |  |  | 469 | 59,178 | 2,099,212.7
* AFG and SAFER grants are awarded directly to individual fire departments.

Estimated Cost: The annualized hour burden cost to respondents is estimated to be $53,588,308. This estimate is based on the hourly wage rate for State Representative and Fire Department Chiefs completing and submitting the FEMA Grant Administration forms to FEMA for review and approval.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before November 27, 2007.

ADDRESSES: Interested persons should submit written comments to Director, Records Management and Privacy, Office of Management Directorate, Federal Emergency Management Agency, 500 C Street, SW., Room 609, Washington, DC 20472.

FOR FURTHER INFORMATION CONTACT: Contact Cecelia Rosenberg, Section Chief, Mitigation Directorate, (202) 646-3321 for additional information. You may contact the Records Management Branch for copies of the proposed collection of information at facsimile number (202) 646-3347 or e-mail address: FEMA-Information-Collections@dhs.gov.

Dated: September 25, 2007.
John A. Sharetts-Sullivan,
Director, Records Management and Privacy, Office of Management Directorate, Federal Emergency Management Agency. Department of Homeland Security.

[FR Doc. E7-19231 Filed 9-27-07; 8:45 am]

BILLING CODE 9110-49-P